DEPARTMENT OF TRANSPORTATION

Federal Railroad Administration

[Docket Number FRA-2013-0009]

Petition for Waiver of Compliance

In accordance with Part 211 of Title 49 Code of Federal Regulations (CFR), this document provides the public notice that by a document dated January 24, 2013, the Black Hills Central Railroad (BHC) has petitioned the Federal Railroad Administration (FRA) for a waiver of compliance from certain provisions of the Federal railroad safety regulations contained at 49 CFR part 230, Steam Locomotive Inspection and Maintenance Standards. FRA assigned the petition Docket Number FRA-2013-0009.

Located in South Dakota, BHC is a privately owned railroad that has operated on 10 miles of scenic right-of-way between Hill City and Keystone since 1957. The line was originally a branch off of the Chicago, Burlington and Quincy Railroad's “Highline,” constructed in 1900, that operated from Edgemont to Deadwood. BHC presently operates as a seasonal, tourist operation and no longer operates as part of the general railroad system of transportation.

BHC currently has three oil-burning, Baldwin steam locomotives; one EMD GP9; and a Whitcomb center cab switch engine in service. BHC requests a waiver for Locomotive BHC 7 (BHC 7), a 2-6-2 tender-type steam locomotive built in 1919. The locomotive originally burned coal but was converted to oil in 1923. It operates at 190 psi boiler pressure. BHC 7 is non-super-heated; consequently, it is not operated on a regular basis due to its fuel consumption. It has accumulated 29 days of service since the last flexible staybolt and cap inspection in March 2008. The current 1472 service-day inspection (SDI) expires in April 2015.

BHC requests relief from 49 CFR 230.16(a)(2), with respect to flexible staybolt and cap inspection and 49 CFR 230.41, Flexible staybolts with caps. BHC requests an additional 2 years to the prescribed 5-year period to perform the flexible staybolt and cap inspection, thereby extending the inspection period to a total of 7 years. BHC will perform the annual inspection pursuant to 49 CFR 230.16. Granting the waiver would allow BHC 7 to undergo an annual inspection without the added burden of removing the locomotive cab, boiler jacketing, and attendant insulation, which is required for the flexible staybolt and cap inspection. Additionally, the flexible staybolt and cap inspection would coincide with the next 1472 SDI. BHC believes that due to the limited days of service for BHC 7, the railroad's high standard of safety would not be compromised.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by May 28, 2013 will be considered by FRA before final action is taken. Comments received after that date will be considered as far as is practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on April 8, 2013.
Robert C. Lauby,
Deputy Associate Administrator for Regulatory and Legislative Operations.

[FR Doc. 2013-08620 Filed 4-11-13; 8:45 am]

BILLING CODE 4910-06-P